DEPARTMENT OF AGRICULTURE

Animal and Plant Health Inspection Service

7 CFR Part 301

[Docket No. APHIS-2018-0041]

RIN 0579-AE48

Amendments to the Pale Cyst Nematode Regulations

AGENCY: Animal and Plant Health Inspection Service, USDA.

ACTION: Proposed rule; reopening of comment period.

SUMMARY: We are reopening the comment period for our proposed rule that would amend the domestic quarantine regulations for pale cyst nematode by adding procedures that would allow persons to review and comment on the protocols for regulating and deregulating quarantine and associated areas. This action will allow interested persons additional time to prepare and submit comments.

DATES: The comment period for the proposed rule published on March 4, 2019 (84 FR 7304-7306) is reopened. We will consider all comments that we receive on or before July 26, 2019.

ADDRESSES: You may submit comments by either of the following methods:

• Federal eRulemaking Portal: Go to http://www.regulations.gov/#!docketDetail;D=APHIS-2018-0041.

• Postal Mail/Commercial Delivery: Send your comment to Docket No. APHIS-2018-0041, Regulatory Analysis and Development, PPD, APHIS, Station 3A-03.8, 4700 River Road, Unit 118, Riverdale, MD 20737-1238.

Supporting documents and any comments we receive on this docket may be viewed at http://www.regulations.gov/#!docketDetail;D=APHIS-2018-0041 or in our reading room, which is located in Room 1141 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: Ms. Evelia Sosa, Assistant Director, Pest Management, PHP, PPQ, APHIS, 4700 River Road, Unit 137, Riverdale, MD 20737; (301) 851-2217; Evelia.Sosa@usda.gov.

SUPPLEMENTARY INFORMATION: On March 4, 2019, we published in the Federal Register (84 FR 7304-7306, Docket No. APHIS-2018-0041) a proposal ¹ to amend the domestic quarantine regulations for pale cyst nematode by adding procedures that would allow persons to review and comment on the protocols for regulating and deregulating quarantine and associated areas.

¹ To view the proposed rule, supporting documents, and comments received, go to http://www.regulations.gov/#!docketDetail;D=APHIS-2018-0041.

Comments on the proposed rule were required to be received on or before May 3, 2019. However, not all of the protocols were available online for review during the entire comment period. In addition, a few commenters reported difficulties in accessing the protocols with the web link provided in the proposed rule. To ensure that all persons wishing to comment on the protocols have that opportunity, we are reopening the comment period on Docket No. APHIS-2018-0041 for an additional 30 days from the date of publication of this notice. The protocols are available for review on the Plant Protection and Quarantine website at https://www.aphis.usda.gov/planthealth/pcn, and on the Regulations.gov website at https://www.regulations.gov/docket?D=APHIS-2018-0041. This action will allow interested persons additional time to review all the protocols and to prepare and submit comments. We will also consider all comments received between May 4, 2019, and the date of this notice.

Authority: 7 U.S.C. 7701-7772 and 7781-7786; 7 CFR 2.22, 2.80, and 371.3. Section 301.75-15 issued under Sec. 204, Title II, Public Law 106-113, 113 Stat. 1501A-293; sections 301.75-15 and 301.75-16 issued under Sec. 203, Title II, Public Law 106-224, 114 Stat. 400 (7 U.S.C. 1421 note).

Done in Washington, DC, this 21st day of June 2019.
Kevin Shea,
Administrator, Animal and Plant Health Inspection Service.

[FR Doc. 2019-13610 Filed 6-25-19; 8:45 am]

BILLING CODE 3410-34-P